DEPARTMENT OF AGRICULTURE

Federal Crop Insurance Corporation

7 CFR Part 457

RIN 0563-AC01

Common Crop Insurance Regulations, Florida Citrus Fruit Crop Insurance Provisions; Correction

AGENCY: Federal Crop Insurance Corporation, USDA.

ACTION: Final rule; correction.

SUMMARY: This document contains corrections to the final regulation which was published Thursday, February 7, 2008. The regulation pertains to the insurance of Florida Citrus Fruit.

DATES: Effective Date: The effective date for the final rule published February 7, 2008 (73 FR 7190), is corrected to March 15, 2008. Other corrections in this document are also effective March 15, 2008.

FOR FURTHER INFORMATION CONTACT: Bill Klein , Risk Management Specialist, Product Management, Product Administration and Standards Division, Risk Management Agency, United States Department of Agriculture, Beacon Facility—Mail Stop 0812, P.O. Box 419205, Kansas City, MO 64141-6205, telephone (816) 926-7730.

SUPPLEMENTARY INFORMATION:

Background

The final regulation that is the subject of these corrections was intended to amend certain Florida Citrus Fruit Crop Insurance Provisions to be used in conjunction with the Common Crop Insurance Policy Basic Provisions for ease of use and consistency of terms.

Need for Corrections

As published at 73 FR 7190, the final regulation contained errors that may prove to be misleading and need to be clarified.

1. The first error is contained in the beginning in the Final Rule on page 7190 where it indicates the Effective Date of the amendments is March 10, 2008. This is incorrect. The text should read: Effective Date: March 15, 2008.

2. The second error is on page 7196 in the words of issuance. This text should have stated the amendments are effective for the 2009 and succeeding crop years. The text should read as follows:

“Accordingly, as set forth in the preamble, the Federal Crop Insurance Corporation amends 7 CFR part 457, Common Crop Insurance Regulations, for the 2009 and succeeding crop years as follows:”

3. The third error is on page 7199 in section 10(e)(2)(iv). This correction replaces the semi-colon at the end of paragraph (e)(2)(iv) with a period.

Signed in Washington, DC, on February 21, 2008.
Eldon Gould,
Manager, Federal Crop Insurance Corporation.

[FR Doc. E8-3854 Filed 2-28-08; 8:45 am]

BILLING CODE 3410-08-P